DEPARTMENT OF ENERGY

Federal Energy Regulatory Commission

Combined Notice of Filings #1

Take notice that the Commission received the following exempt wholesale generator filings:

Docket Numbers: EG25-174-000.

Applicants: Monarch Creek Wind LLC.

Description: Monarch Creek Wind LLC submits Notice of Self-Certification of Exempt Wholesale Generator Status.

Filed Date: 2/27/25.

Accession Number: 20250227-5291.

Comment Date: 5 p.m. ET 3/20/25.

Docket Numbers: EG25-175-000.

Applicants: Eldorado Solar Project II, LLC.

Description: Eldorado Solar Project II, LLC submits Notice of Self-Certification of Exempt Wholesale Generator Status.

Filed Date: 2/28/25.

Accession Number: 20250228-5116.

Comment Date: 5 p.m. ET 3/21/25.

Docket Numbers: EG25-176-000.

Applicants: Sol InfraCo MT3, LLC.

Description: Sol InfraCo MT3, LLC submits Notice of Self-Certification of Exempt Wholesale Generator Status.

Filed Date: 2/28/25.

Accession Number: 20250228-5119.

Comment Date: 5 p.m. ET 3/21/25.

Docket Numbers: EG25-177-000.

Applicants: FRP Forest Trail Solar, LLC.

Description: FRP Forest Trail Solar, LLC submits Notice of Self-Certification of Exempt Wholesale Generator Status.

Filed Date: 2/28/25.

Accession Number: 20250228-5307.

Comment Date: 5 p.m. ET 3/21/25.

Docket Numbers: EG25-178-000.

Applicants: FRP Miller Solar, LLC.

Description: FRP Miller Solar, LLC submits Notice of Self-Certification of Exempt Wholesale Generator Status.

Filed Date: 2/28/25.

Accession Number: 20250228-5310.

Comment Date: 5 p.m. ET 3/21/25.

Take notice that the Commission received the following electric rate filings:

Docket Numbers: ER10-1355-015.

Applicants: Southern California Edison Company.

Description: Amendment to 12/06/24, Triennial Market Power Analysis and Supplement to 10/31/2022 Notice of Change in Status of Southern California Edison Company.

Filed Date: 1/27/25.

Accession Number: 20250127-5242.

Comment Date: 5 p.m. ET 3/21/25.

Docket Numbers: ER10-2566-014; ER10-1333-017; ER13-2387-011; ER13-2322-010; ER15-190-022; ER19-1819-006; ER19-1820-006; ER19-1821-006; ER18-1343-016; ER21-2426-002.

Applicants: CPRE 1 Lessee, LLC, Carolina Solar Power, LLC, Speedway Solar NC, LLC, Stony Knoll Solar, LLC, Broad River Solar, LLC, Duke Energy Renewable Services, LLC, Duke Energy Progress, Inc., Duke Energy Florida, Inc., Duke Energy Commercial Enterprises, Inc., Duke Energy Carolinas, LLC.

Description: Supplement to June 30, 2023 Triennial Market Power Analysis for Southeast Region of Duke Energy Commercial Enterprises, Inc., et al.

Filed Date: 7/19/23.

Accession Number: 20230719-5228.

Comment Date: 5 p.m. ET 3/21/25.

Docket Numbers: ER10-2566-014; ER10-1333-017; ER13-2387-011; ER13-2322-010; ER15-190-022; ER19-1819-006; ER18-1343-016; ER19-1821-006; ER19-1820-006; ER21-2426-002.

Applicants: CPRE 1 Lessee, LLC, Carolina Solar Power, LLC, Speedway Solar NC, LLC, Stony Knoll Solar, LLC, Broad River Solar, LLC, Duke Energy Renewable Services, LLC, Duke Energy Progress, Inc., Duke Energy Florida, Inc., Duke Energy Commercial Enterprises, Inc., Duke Energy Carolinas, LLC.

Description: Amendment to June 30, 2023, Triennial Market Power Analysis for Southeast Region of Duke Energy Commercial Enterprises, Inc., et al.

Filed Date: 8/1/23.

Accession Number: 20230801-5225.

Comment Date: 5 p.m. ET 3/21/25.

Docket Numbers: ER25-907-001.

Applicants: Entergy Arkansas, LLC.

Description: Tariff Amendment: EAL-Osceola WDS Agreement to be effective 3/12/2025.

Filed Date: 2/28/25.

Accession Number: 20250228-5249.

Comment Date: 5 p.m. ET 3/21/25.

Docket Numbers: ER25-1423-000.

Applicants: Mustang Mile Solar Energy LLC.

Description: Request for Limited and Prospective Tariff Waiver, et al. of Mustang Mile Solar Energy LLC.

Filed Date: 2/26/25.

Accession Number: 20250226-5232.

Comment Date: 5 p.m. ET 3/19/25.

Docket Numbers: ER25-1424-000.

Applicants: Washtenaw Solar Energy LLC.

Description: Request for Limited and Prospective Tariff Waiver, et al. of Washtenaw Solar Energy LLC.

Filed Date: 2/26/25.

Accession Number: 20250226-5233.

Comment Date: 5 p.m. ET 3/19/25.

Docket Numbers: ER25-1442-000.

Applicants: New England Power Pool Participants Committee.

Description: 205(d) Rate Filing: Mar 2025 Membership Filing to be effective 3/1/2025.

Filed Date: 2/28/25.

Accession Number: 20250228-5005.

Comment Date: 5 p.m. ET 3/21/25.

Docket Numbers: ER25-1443-000.

Applicants: Midcontinent Independent System Operator, Inc.

Description: 205(d) Rate Filing: 2025-02-28_SA 3929 Termination of ITC Midwest-Salt Creek E&P (J1365) to be effective 3/1/2025.

Filed Date: 2/28/25.

Accession Number: 20250228-5049.

Comment Date: 5 p.m. ET 3/21/25.

Docket Numbers: ER25-1444-000.

Applicants: Southwest Power Pool, Inc.

Description: 205(d) Rate Filing: 3215R16 People's Electric Cooperative NITSA NOAs to be effective 2/1/2025.

Filed Date: 2/28/25.

Accession Number: 20250228-5062.

Comment Date: 5 p.m. ET 3/21/25.

Docket Numbers: ER25-1445-000.

Applicants: ISO New England Inc.

Description: 205(d) Rate Filing: ISO-NE; Req for 3/1/25 Effective Date; 10-Day Comment Period; and 3/31/25 Order to be effective 3/1/2025.

Filed Date: 2/28/25.

Accession Number: 20250228-5081.

Comment Date: 5 p.m. ET 3/10/25.

Docket Numbers: ER25-1446-000.

Applicants: MS Solar 7, LLC.

Description: 205(d) Rate Filing: MS Solar 7, LLC MBR Application Filing to be effective 3/1/2025.

Filed Date: 2/28/25.

Accession Number: 20250228-5143.

Comment Date: 5 p.m. ET 3/21/25.

Docket Numbers: ER25-1447-000.

Applicants: Constellation Energy Generation, LLC.

Description: 205(d) Rate Filing: Reactive Service Rate Schedule Filing for Deactivation of Units (Eddystone) to be effective 6/1/2025.

Filed Date: 2/28/25.

Accession Number: 20250228-5164.

Comment Date: 5 p.m. ET 3/21/25.

Docket Numbers: ER25-1448-000.

Applicants: Entergy Louisiana, LLC.

Description: 205(d) Rate Filing: ELL-Lafayette Amended System Interconnection Agreement to be effective 5/1/2025.

Filed Date: 2/28/25.

Accession Number: 20250228-5244.

Comment Date: 5 p.m. ET 3/21/25.

Docket Numbers: ER25-1449-000.

Applicants: California Independent System Operator Corporation.

Description: 205(d) Rate Filing: 2025-02-28 Amended and Restated Joint-Owned Unit (JOU) Pilot Agreement to be effective 5/3/2025.

Filed Date: 2/28/25.

Accession Number: 20250228-5246.

Comment Date: 5 p.m. ET 3/21/25.

Docket Numbers: ER25-1450-000.

Applicants: Entergy Louisiana, LLC.

Description: 205(d) Rate Filing: ELL-Pelican WDS Agreement to be effective 3/11/2025.

Filed Date: 2/28/25.

Accession Number: 20250228-5247.

Comment Date: 5 p.m. ET 3/21/25.

Docket Numbers: ER25-1451-000.

Applicants: PJM Interconnection, L.L.C.

Description: 205(d) Rate Filing: Original CSA, Service Agreement No. 7546; AF1-119/AF2-162 to be effective 1/29/2025.

Filed Date: 2/28/25.

Accession Number: 20250228-5248.

Comment Date: 5 p.m. ET 3/21/25.

Docket Numbers: ER25-1452-000.

Applicants: ITC Great Plains, LLC.

Description: 205(d) Rate Filing: Filing of Facilities Service Agreement to be effective 4/30/2025.

Filed Date: 2/28/25.

Accession Number: 20250228-5251.

Comment Date: 5 p.m. ET 3/21/25.

Docket Numbers: ER25-1453-000.

Applicants: PJM Interconnection, L.L.C.

Description: 205(d) Rate Filing: Original GIA, Service Agreement No. 7545; AF1-119/AF2-162 to be effective 1/29/2025.

Filed Date: 2/28/25.

Accession Number: 20250228-5259.

Comment Date: 5 p.m. ET 3/21/25.

Docket Numbers: ER25-1454-000.

Applicants: PJM Interconnection, L.L.C.

Description: 205(d) Rate Filing: Amendment to WMPA, Service Agreement No. 5556; AE1-123 to be effective 4/30/2025.

Filed Date: 2/28/25.

Accession Number: 20250228-5295.

Comment Date: 5 p.m. ET 3/21/25.

Docket Numbers: ER25-1455-000.

Applicants: PJM Interconnection, L.L.C.

Description: 205(d) Rate Filing: Original CSA Service Agreement No. 7565; Project Identifier No. AF2-083 to be effective 1/29/2025.

Filed Date: 2/28/25.

Accession Number: 20250228-5304.

Comment Date: 5 p.m. ET 3/21/25.

Docket Numbers: ER25-1456-000.

Applicants: Puget Sound Energy, Inc.

Description: 205(d) Rate Filing: Interconnection Agreement Between PSE and City of Blaine—SA 5160 to be effective 3/1/2025.

Filed Date: 2/28/25.

Accession Number: 20250228-5348.

Comment Date: 5 p.m. ET 3/21/25.

Docket Numbers: ER25-1457-000.

Applicants: PJM Interconnection, L.L.C.

Description: 205(d) Rate Filing: Original GIA SA No. 7564 & Notice of Cancellation IISA SA No. 6573; AF2-083 to be effective 1/30/2025.

Filed Date: 2/28/25.

Accession Number: 20250228-5353.

Comment Date: 5 p.m. ET 3/21/25.

Docket Numbers: ER25-1458-000.

Applicants: Duke Energy Carolinas, LLC.

Description: 205(d) Rate Filing: DEC-DEP As-Available Capacity Sales Agreement Rate Schedule No. 680 to be effective 6/1/2025.

Filed Date: 2/28/25.

Accession Number: 20250228-5362.

Comment Date: 5 p.m. ET 3/21/25.

Docket Numbers: ER25-1459-000.

Applicants: Duke Energy Progress, LLC.

Description: 205(d) Rate Filing: DEP As-Available Capacity Agreement Concurrence Filing Rate Schedule No. 457 to be effective 6/1/2025.

Filed Date: 2/28/25.

Accession Number: 20250228-5365.

Comment Date: 5 p.m. ET 3/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 28, 2025.
Debbie-Anne A. Reese,
Secretary.

[FR Doc. 2025-03675 Filed 3-6-25; 8:45 am]

BILLING CODE 6717-01-P